DEPARTMENT OF ENERGY

[FE Docket Nos. 10-111-LNG; 14-105-NG; 12-97-LNG; et al.]

Orders Granting Authority To Import and Export Natural Gas, To Import and Export Liquefied Natural Gas, To Vacate Authorization, To Amend, To Deny Rehearing, and To Grant Rehearing During May 2016

| FE Docket Nos.
SABINE PASS LIQUEFACTION, LLC | 10-111-LNG
BTG PACTUAL COMMODITIES (US) LLC | 14-105-NG
CHENIERE MARKETING, LLC AND CORPUS CHRISTI LIQUEFACTION, LLC | 12-97-LNG
SABINE PASS LIQUEFACTION, LLC | 13-30-LNG; 13-42-LNG; 13-121-LNG
BOSTON GAS COMPANY d/b/a NATIONAL GRID | 16-50-LNG
SANTA FE GAS LLC | 16-45-NG
SANTA FE GAS LLC | 16-45-NG
NORTHWEST NATURAL GAS COMPANY | 16-47-NG
THE NARRAGANSETT ELECTRIC COMPANY d/b/a NATIONAL GRID | 16-49-LNG
CHENIERE MARKETING | 16-29-LNG
S.D. SUNNYLAND ENTERPRISES, INC | 16-61-LNG
PAA NATURAL GAS STORAGE ULC | 16-53-NG
FLINT HILLS RESOURCES, LP | 15-168-LNG
ENGELHART CTP (US) | 16-54-NG
IRVING OIL TERMINALS INC | 16-56-CNG
STABILIS ENERGY SERVICES LLC | 16-57-LNG
NEW YORK STATE ELECTRIC & GAS COPORATION | 16-60-NG
HOUSTON PIPE LINE COMPANY LP | 16-62-NG
VIRGINIA POWER ENERGY MARKETING, INC | 16-59-NG
SACRAMENTO MUNICIPAL UTILITY DISTRICT | 16-58-NG
SANTA FE GAS LLC | 16-63-NG
ATLANTIC POWER ENERGY SERVICES (US) LLC | 16-65-NG
CHEVRON U.S.A. INC | 16-66-LNG
UNITED ENERGY TRADING AND CANADA ULC | 16-26-NG 14-39-NG
SABINE PASS LIQUEFACTION, LLC | 15-63-LNG

AGENCY: Office of Fossil Energy, Department of Energy.

ACTION: Notice of orders.

SUMMARY: The Office of Fossil Energy (FE) of the Department of Energy gives notice that during May 2016, it issued orders granting authority to import and export natural gas, to import and export liquefied natural gas (LNG), to vacate authority, to amend, to deny rehearing, and to grant rehearing. These orders are summarized in the attached appendix and may be found on the FE Web site at http://energy.gov/fe/listing-doefe-authorizationsorders-issued-2016.

They are also available for inspection and copying in the U.S. Department of Energy (FE-34), Division of Natural Gas Regulation, Office of Regulation and International Engagement, Office of Fossil Energy, Docket Room 3E-033, Forrestal Building, 1000 Independence Avenue SW., Washington, DC 20585, (202) 586-9478. The Docket Room is open between the hours of 8:00 a.m. and 4:30 p.m., Monday through Friday, except Federal holidays.

Issued in Washington, DC, on June 22, 2016.
John A. Anderson,
Director, Office of Regulation and International Engagement, Office of Oil and Natural Gas.

Appendix

DOE/FE Orders Granting Import/Export Authorizations
2961-C | 05/04/16 | 10-111-LNG | Sabine Pass Liquefaction, LLC | Order 2961-C Amending Orders 2961-A and 2961-B.
3496-A | 05/17/16 | 14105-NG | BTG Pactual Commodities (US) LLC | Order 3496-A granting blanket authority to import/export natural gas from/to Canada/Mexico and vacating prior authority in Order 3496.
3638-A | 05/26/16 | 12-97-LNG | Cheniere Marketing, LLC and Corpus Christi Liquefaction, LLC | Order 3638-A denying Request for Rehearing of Order granting long-term, multi-contract authority to export LNG by vessel from the Proposed Corpus Christie Liquefaction Project to located in Corpus Christi, Texas, to Non-free Trade Agreement Nations.
3669-A | 05/26/16 | 13-30-LNG; 13-42-LNG; 13-121-LNG (consolidated) | Sabine Pass Liquefaction, LLC | Order 3669-A denying Request for Rehearing of Order granting long-term, multi-contract authority to export LNG by vessel from the Sabine Pass LNG Terminal located in Cameron and Calcasieu Parishes, Louisiana, to Non-free Trade Agreement Nations.
3819 | 05/12/16 | 16-50-LNG | Boston Gas Company d/b/a National Grid | Order 3819 granting long-term authority to export LNG from Canada by truck.
3820 | 05/02/16 | 16-45-NG | Santa Fe Gas LLC | Order 3820 granting blanket authority to import/export natural gas from/to Mexico.
3820-A | 05/20/16 | 16-45-NG | Santa Fe Gas LLC | Order 3820-A vacating order 3810 granting blanket authority to import/export natural gas from/to Canada.
3823 | 05/12/16 | 16-47-NG | Northwest Natural Gas Company | Order 3823 granting blanket authority to import/export natural gas from/to Canada.
3824 | 0512/16 | 16-49-LNG | The Narragansett Electric Company d/b/a National Grid | Order 3824 granting long-term authority to export LNG from Canada by truck.
3825 | 05/26/16 | 16-29-LNG | Cheniere Marketing, LLC | Order 3825 granting blanket authority to export previously imported LNG by vessel.
3826 | 05/24/16 | 16-61-LNG | S.D. Sunnyland Enterprises, Inc | Order 3826 granting blanket authority to import LNG from various international sources by vessel and to export LNG to Canada by vessel.
3828 | 05/16/16 | 16-53-NG | PAA Natural Gas Storage ULC | Order 3828 granting blanket authority to import/export natural gas from/to Canada.
3829 | 05/20/16 | 15-168-LNG | Flint Hills Resources, LP | Order 3829 granting long-term Multi-contract authority to export LNG in ISO Containers and in Bulk Loaded at the Stabilis LNG Eagle Ford Facility in George West, Texas, and exported by vessel to Non-free Trade Agreement Nations.
3830 | 05/17/16 | 16-54-NG | Engelhart Ctp (US) | Order 3830 granting blanket authority to import/export natural gas from/to Canada/Mexico and vacating prior authority in Order 3496.
3831 | 05/19/16 | 16-56-CNG | Irving Oil Terminals Inc | Order 3831 granting blanket authority to import/export compressed natural gas from/to Canada by truck.
3832 | 05/19/16 | 16-57-LNG | Stabilis Energy Services LLC | Order 3832 granting blanket authority to import/export LNG from/to Canada/Mexico by truck.
3833 | 05/20/16 | 16-60-NG | New York State Electric & Gas Corporation | Order 3833 granting blanket authority to import/export natural gas from/to Canada/Mexico.
3834 | 05/20/16 | 16-62-NG | Houston Pipe Line Company LP | Order 3834 granting blanket authority to import/export natural gas from/to Mexico.
3835 | 05/20/16 | 16-59-NG | Virginia Power Energy Marketing, Inc | Order 3835 granting blanket authority to import/export natural gas from/to Canada.
3836 | 05/20/16 | 16-58-NG | Sacramento Municipal Utility District | Order 3836 granting blanket authority to import/export natural gas from/to Canada.
3837 | 05/20/16 | 16-63-NG | Santa Fe Gas LLC | Order 3837 granting blanket authority to import/export natural gas from/to Mexico.
3838 | 05/26/16 | 16-65-NG | Atlantic Power Energy Services (US) LLC | Order 3838 granting blanket authority to import/export natural gas from/to Canada.
3839 | 05/26/16 | 16-66-LNG | Chevron U.S.A. Inc | Order 3839 granting blanket authority to import LNG from various international sources by vessel.
3840; 3425-A | 05/26/16 | 16-26-NG; 14-39-NG | United Energy Trading and Canada ULC | Orders 3840 and 3425-A granting blanket authority to import/export natural gas from/to Canada and vacating prior authority.
Unnumbered Order | 05/10/16 | 15-63-LNG | Sabine Pass Liquefaction, LLC | Unnumbered Order granting Request for Rehearing and Motion for Leave to Answer for the Purpose of Further Consideration.

[FR Doc. 2016-15314 Filed 6-27-16; 8:45 am]

BILLING CODE 6450-01-P